ENVIRONMENTAL PROTECTION AGENCY

40 CFR Parts 136, 141, and 143

[FRL-6918-1]

RIN 2040-AD59

Guidelines Establishing Test Procedures for the Analysis of Pollutants Under the Clean Water Act; National Primary Drinking Water Regulations; and National Secondary Drinking Water Regulations; Methods Update

AGENCY: Environmental Protection Agency (EPA).

ACTION: Proposed rule.

SUMMARY: EPA is proposing action on a methods update rule that approves revised versions of test procedures (i.e., analytical methods) for the determination of chemical, radiological, and microbiological pollutants and contaminants in wastewater and drinking water. The revisions concern methods published by one or more of the following organizations: American Society for Testing Materials (ASTM), United States Geological Survey (USGS), United States Department of Energy (DOE), American Public Health Association (APHA), American Water Works Association (AWWA), and Water Environment Federation (WEF). Previously approved versions of the methods remain approved. This rule will give the analytical community a larger selection of analytical methods. Today's action also corrects typographical errors and updates references where appropriate.

DATES: Written comments must be received by March 19, 2001.

ADDRESSES: You may submit written comments either by mail or electronically. Send comments to the Methods Update Comment Clerk (W-99-21), U.S. Environmental Protection Agency, Water Docket, MC-4101, Ariel Rios Bldg., 1200 Pennsylvania Ave., NW., Washington, DC 20460. Submit electronic comments to OW-Docket@epa.gov. Please submit copies of any references cited in your comments. EPA would appreciate an original and 3 copies of your comments and enclosures (including references).

This Federal Register document is also available on the Internet at: http://www.epa.gov/fedrgstr. The record for this rulemaking has been established under docket number W-99-21. Supporting documents (including references and methods cited in this notice) are available for review at the U.S. Environmental Protection Agency, Water Docket, East Tower Basement, Room EB57, 401 M Street, SW., Washington, DC 20460. For access to the docket materials, call 202/260-3027 on Monday through Friday, excluding Federal holidays, between 9 a.m. and 3:30 p.m. Eastern Daylight Standard Time for an appointment.

Copies of final methods published by ASTM are available for a nominal cost through American Society for Testing and Materials, 100 Barr Harbor Drive, West Conshohocken, PA 19428-2959. Copies of final methods published by USGS are available for a nominal cost through the United States Geological Survey, U.S. Geological Survey Information Services, Box 25286, Federal Center, Denver, CO 80225-0425. Copies of final methods published by DOE are available for a nominal cost through the Environmental Measurements Laboratory, U.S. Department of Energy, 376 Hudson Street, New York, NY 10014-3621. Copies of Standard Methods are available for a nominal cost from the American Public Health Association, 1015 Fifteenth Street NW., Washington, DC 20005.

FOR FURTHER INFORMATION CONTACT: For information regarding wastewater methods contact Dr. Maria Gomez-Taylor, Engineering and Analysis Division (4303), USEPA Office of Science and Technology, Ariel Rios Bldg., 1200 Pennsylvania Ave., NW., Washington, DC 20460 (e-mail: Gomez-Taylor.Maria@epa.gov). For information regarding drinking water methods contact Dr. Richard Reding, Office of Ground Water and Drinking Water, U.S. Environmental Protection Agency, Cincinnati, Ohio 45268 (e-mail: Reding.Richard@epa.gov).

SUPPLEMENTARY INFORMATION: We are proposing to approve revisions to the Guidelines Establishing Test Procedures for the Analysis of Pollutants Under the Clean Water Act; National Primary Drinking Water Regulations; and National Secondary Drinking Water Regulations; Methods Update. Elsewhere in today's Federal Register, the Agency is promulgating this rule as a direct final rule without prior proposal because we view these as non-controversial revisions and do not expect adverse comments. We want to allow immediate use of the methods for compliance monitoring, and believe that it is in the public interest to do so. For further information, please see the information provided in the direct final rule which is located in the “Rules and Regulations” section of this Federal Register publication.

If EPA does not receive adverse comment, we will not take further action on this proposal. If we receive adverse comment, we will withdraw the direct final rule (or the distinct amendment, paragraph, or section to which comments apply) and it (they) will not take effect. We will address all public comments in a subsequent final rule based on the proposed rule. We will not institute a second comment period on this action. Any parties interested in making comments must do so at this time. For the various statutes and executive orders that require findings for rulemaking, EPA incorporates the findings from the direct final rulemaking into this companion notice for the purpose of providing public notice and opportunity for comment.

List of Subjects

40 CFR Part 136

Environmental protection, Analytical methods, Incorporation by reference, Reporting and recordkeeping requirements, Water pollution control.

40 CFR Part 141

Environmental protection, Chemicals, Incorporation by reference, Indian-lands, Intergovernmental relations, Radiation protection, Reporting and recordkeeping requirements, Water supply.

40 CFR Part 143

Environmental protection, Chemicals, Incorporation by reference, Indian-lands, Water supply.

Dated: December 11, 2000.
Carol M. Browner,
Administrator.

[FR Doc. 01-179 Filed 1-12-01; 8:45 am]

BILLING CODE 6560-50-P